DEPARTMENT OF JUSTICE

Antitrust Division

Notice Pursuant to the National Cooperative Research and Production Act of 1993—National Glass Association

Notice is hereby given that, on July 11, 2006, pursuant to section 6(a) of the National Cooperative Research and Production Act of 1993, 15 U.S.C. 4301 et seq. (“the Act”), National Glass Association (“NGA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is National Glass Association, McLean, VA. The nature and scope of NGA's standards development activities are: The development of a Repair of Laminated Automotive Safety Glass Standard (“ROLAGS”). The goal of ROLAGS is to provide a nationally recognized standard to aid in the decision to repair or replace damaged laminated auto glass; to assist the public to understand what is achieved through windshield repair; to encourage technicians to follow the industry's best practices; and to codify a consensus statement of the industry's best practices.

Patricia A. Brink,
Deputy Director of Operations, Antitrust Division.

[FR Doc. 06-6901 Filed 8-11-06; 8:45 am]

BILLING CODE 4410-11-M